DEPARTMENT OF COMMERCE

International Trade Administration

[A-570-211, A-560-844, A-552-851]

Hardwood and Decorative Plywood From the People's Republic of China, Indonesia, and the Socialist Republic of Vietnam: Postponement of Preliminary Determinations in the Less-Than-Fair-Value Investigations

AGENCY: Enforcement and Compliance, International Trade Administration, Department of Commerce.

DATES: Applicable November 18, 2025.

FOR FURTHER INFORMATION CONTACT: Theodora Mattei at (202) 482-4834 (People's Republic of China (China)), Joy Zhang at (202) 482-1168 (Indonesia), and John Frye at (202) 482-3035 (Socialist Republic of Vietnam (Vietnam)), AD/CVD Operations, Enforcement and Compliance, International Trade Administration, U.S. Department of Commerce, 1401 Constitution Avenue NW, Washington, DC 20230.

SUPPLEMENTARY INFORMATION:

Background

On June 11, 2025, the U.S. Department of Commerce (Commerce) initiated less-than-fair-value (LTFV) investigations of imports of hardwood and decorative plywood from China, Indonesia, and Vietnam.¹ Currently, the preliminary determinations are due no later than October 29, 2025.

¹ See Hardwood and Decorative Plywood from the People's Republic of China, Indonesia, and the Socialist Republic of Vietnam: Initiation of Less-Than-Fair-Value Investigations, 90 FR 25212 (June 16, 2025) (Initiation Notice).

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Coalition for Fair Trade in Hardwood Plywood.

On September 19, 2025, the petitioner submitted a timely request that Commerce postpone the preliminary determinations in these LTFV investigations.³ The petitioner stated that it requested postponement because “these investigations cover hardwood and decorative plywood from multiple countries, and thus require a significant amount of resources to fully investigate.” ⁴ The petitioner also stated that “{Commerce} only recently received responses to the initial questionnaires in these investigations. Accordingly, {a postponement of the preliminary determinations} would allow {the petitioner's} counsel and other interested parties sufficient time to analyze respondents' questionnaire responses and provide comments on those responses. In addition, it would allow {Commerce} to issue supplemental questionnaires and receive responses prior to {the preliminary determinations}.” ⁵

³ See Petitioner's Letter, “Request to Postpone Preliminary Determinations,” dated September 19, 2025.

⁴ Id. at 1.

⁵ Id. at 1-2.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than December 18, 2025. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: September 30, 2025.
Christopher Abbott,
Deputy Assistant Secretary for Policy and Negotiations, performing the non-exclusive functions and duties of the Assistant Secretary for Enforcement and Compliance.

[FR Doc. 2025-20156 Filed 11-17-25; 8:45 am]

BILLING CODE 3510-DS-P